DEPARTMENT OF ENERGY

Federal Energy Regulatory Commission

Combined Notice of Filings

Take notice that the Commission has received the following Natural Gas Pipeline Rate and Refund Report filings:

Docket Numbers: RP15-841-000.

Applicants: Trailblazer Pipeline Company LLC.

Description: Compliance filing per 154.501: Fuel Refund Report in Docket No. RP15-841 to be effective N/A.

Filed Date: 5/12/15.

Accession Number: 20150512-5096.

Comments Due: 5 p.m. ET 6/10/15.

Docket Numbers: RP15-1006-000.

Applicants: Kern River Gas Transmission Company.

Description: § 4(d) rate filing per 154.204: 2015 South Midway to be effective 7/1/2015.

Filed Date: 5/28/15.

Accession Number: 20150528-5103.

Comments Due: 5 p.m. ET 6/9/15.

Docket Numbers: RP15-1007-000.

Applicants: El Paso Natural Gas Company, L.L.C.

Description: § 4(d) rate filing per 154.601: Negotiated Rate Agreement Update (APS) to be effective 6/1/2015.

Filed Date: 5/28/15.

Accession Number: 20150528-5166.

Comments Due: 5 p.m. ET 6/9/15.

Docket Numbers: RP15-1008-000.

Applicants: Destin Pipeline Company, L.L.C.

Description: § 4(d) rate filing per 154.204: Fuel Retention Adjustment 2015 to be effective 6/1/2015.

Filed Date: 5/28/15.

Accession Number: 20150528-5251.

Comments Due: 5 p.m. ET 6/9/15.

Docket Numbers: RP15-1009-000.

Applicants: Transcontinental Gas Pipe Line Company, LLC.

Description: § 4(d) rate filing per 154.204: Negotiated Rates—Cherokee AGL—Replacement Shippers—Jun 2015 to be effective 6/1/2015.

Filed Date: 5/28/15.

Accession Number: 20150528-5277.

Comments Due: 5 p.m. ET 6/9/15.

Docket Numbers: RP15-1010-000.

Applicants: Paiute Pipeline Company.

Description: § 4(d) rate filing per 154.204: Exhibit A Revision to be effective 6/1/2015.

Filed Date: 5/28/15.

Accession Number: 20150528-5278.

Comments Due: 5 p.m. ET 6/9/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 29, 2015.
Nathaniel J. Davis, Sr.,
Deputy Secretary.

[FR Doc. 2015-13608 Filed 6-3-15; 8:45 am]

BILLING CODE 6717-01-P